DEPARTMENT OF THE INTERIOR

Fish and Wildlife Service

Notice of Receipt of Applications for Permit

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address below) and must be received within 30 days of the date of this notice.

Applicant: Brookfield Zoo/Chicago Zoological Park, Chicago, Illinois, PRT-046073

The applicant requests a permit to import eighteen (18) Goeldi's monkies (Callimico goeldii) from Switzerland for the purpose of the purposes of enhancement of the survival of the species through propagation.

Applicant: Kris J. Rusak, Shelby Township, MI, PRT-045853

The applicant requests a permit to import the sport-hunted trophy of one male bontebok (Damaliscus pygargus dorcas) culled from a captive herd maintained under the management program of the Republic of South Africa, for the purpose of enhancement of the survival of the species.

Applicant: Kevin M. Budney, Berlin, CT, PRT-045852

The applicant requests a permit to import the sport-hunted trophy of one male bontebok (Damaliscus pygargus dorcas) culled from a captive herd maintained under the management program of the Republic of South Africa, for the purpose of enhancement of the survival of the species.

Applicant: Dale F. James, Bedminster, PA, PRT-045928

The applicant requests a permit to import the sport-hunted trophy of one male bontebok (Damaliscus pygargus dorcas) culled from a captive herd maintained under the management program of the Republic of South Africa, for the purpose of enhancement of the survival of the species.

Applicant: Roger Blum, Detroit, MI, PRT-045927

The applicant requests a permit to import the sport-hunted trophy of one male bontebok (Damaliscus pygargus dorcas) culled from a captive herd maintained under the management program of the Republic of South Africa, for the purpose of enhancement of the survival of the species.

Applicant: Johnnie Ray Bryan, Jacksonville, FL, PRT-046027

The applicant requests a permit to import the sport-hunted trophy of one male bontebok (Damaliscus pygargus dorcas) culled from a captive herd maintained under the management program of the Republic of South Africa, for the purpose of enhancement of the survival of the species.

Applicant: Carlos E. Diez, San Juan, Dept. Recursos Naturales Y Ambientales, Puerto Rico, PRT-045380

The applicant requests a permit to export wild-collected Hawksbill sea turtle (Eretmochelys imbricata) eggs from Puerto Rico to the University of Toronto, Ontario, Canada, for the purpose of scientific research. This notification covers activities conducted by the applicant over a five year period.

Applicant: Peter Meylan, Eckered College, St. Petersburg, FL, PRT-030276

The applicant requests the re-issuance of his permit to import tissue and blood samples obtained from wild Hawksbill sea turtle (Eretmochelys imbricata), from the Cayman Island Department of Environment, for the purpose of scientific research. This notification covers activities conducted by the applicant over a five year period.

Applicant: White Oak Conservation Center, Yulee, FL, PRT-046070

The applicant requests a permit to import from the Philipines blood serum samples collected from 10 live captive-held and/or captive-born Visayan deer (Cervus alfredi) for testing at the Foreign Animal Disease Diagnostic Laboratory in Plum Island, NY, as required by the U.S. Department of Agriculture. The import of these samples will enable the applicant to proceed with the import of the 10 Visayan deer previously authorized under permit MA843877-1 for the purpose of enhancing the survival of the species through captive propagation.

Applicant: White Oak Conservation Center, Yulee, FL, PRT-046071

The applicant requests a permit to import from Switzerland blood serum samples collected from 10 live captive-held and/or captive-born Visayan deer (Cervus alfredi) for testing at the Foreign Animal Disease Diagnostic Laboratory in Plum Island, NY, as required by the U.S. Department of Agriculture. The import of these samples will enable the applicant to proceed with the import of the 10 Visayan deer previously authorized under permit MA843877-1 for the purpose of enhancing the survival of the species through captive propagation.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments, or requests for copies of these complete applications or requests for a public hearing on these applications should be submitted to the Director (address below) and must be received within 30 days of the date of this notice. Anyone requesting a hearing should give specific reasons why a hearing would be appropriate. The holding of such a hearing is at the discretion of the Director.

Applicant: Terrie M. Williams, University of California, Santa Cruz, PRT-045447

Permit Type: Take for scientific research

Name and Number of Animals: Southern sea otters (Enhydra lutris nereis), 12 per year

Summary of Activity to be Authorized: The applicant requests a permit to transport animals undergoing rehabilitation to UCSC Long Marine Lab, to California Department of Fish and Game, Marine Wildlife Veterinary Care and Research Center, or to open-water pens in order to conduct research studies on sea otters' ability to thermo-regulate and energy expenditure while diving.

Source of Marine Mammals: animals originally from the wild (Central California coast) undergoing rehabilitation at Monterey Bay Aquarium

Period of Activity: Up to 5 years, if issued.

Applicant: United States Fish and Wildlife Service/Marine Mammal Management, Anchorage, AK, PRT-046081

Permit Type: Take for scientific research

Name and Number of Animals: Polar bear (Ursus maritimus), Variable

Summary of Activity to be Authorized: The applicant requests a permit to conduct aerial fly overs of polar bears for the purpose of conducting population surveys of the Alaska polar bear stocks.

Source of Marine Mammals: Free ranging

Period of Activity: Up to 5 years, if issued.

Concurrent with the publication of this notice in the Federal Register, the Division of Management Authority is forwarding copies of the above applications to the Marine Mammal Commission and the Committee of Scientific Advisors for their review.

Applicant: Ernest J. Meinhardt, Anchorage, AK, PRT-045925

The applicant requests a permit to import a polar bear (Ursus maritimus) sport hunted from the Lancaster Sound polar bear population in Canada for personal use.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: July 27, 2001.
Anna Barry,
Senior Permit Biologist, Branch of Permits, Division of Management Authority.

[FR Doc. 01-19771 Filed 8-6-01; 8:45 am]

BILLING CODE 4310-55-P